DEPARTMENT OF HEALTH AND HUMAN SERVICES

Centers for Disease Control and Prevention

Early Hearing Detection and Intervention (EHDI) Tracking, Surveillance, and Integration; Correction

In the notice document announcing the “Early Hearing Detection and Intervention (EHDI) Tracking, Surveillance, and Integration,” Funding Opportunity Number: RFA 05028, appearing on page 357 in the Federal Register issue of Tuesday, January 4, 2005, the notice is amended as follows:

On page 357, third column under DATES, and page 360, second column under Section IV.3. Submission Dates and Times: amend to reflect Letter of Intent Deadline (LOI) Date: February 10, 2005, and Application Deadline Date: March 14, 2005.

On page 359, second column under Section III.3. Other: fourth bullet delete the semicolon and the word and [; and]; delete fifth bullet “Have previously been awarded a CDC Cooperative Agreement for EHDI Tracking, Surveillance, and Integration (Program Announcements 00076, 01048, or 03055).”

Dated: January 14, 2005.
William P. Nichols,
Director, Procurement and Grants Office, Centers for Disease Control and Prevention (CDC).

[FR Doc. 05-1219 Filed 1-21-05; 8:45 am]

BILLING CODE 4163-18-P